DEPARTMENT OF TRANSPORTATION

Federal Highway Administration

Environmental Impact Statement: Kootenai County, Idaho

AGENCY: Federal Highway Administration (FHWA), DOT.

ACTION: Notice of Intent.

SUMMARY: Pursuant to the National Environmental Policy Act (NEPA), 42 U.S.C. 4321; 40 CFR 1508.22; 23 CFR 771.123(a), the FHWA is issuing this notice to advise the public that an environmental impact statement will be prepared for a proposed highway project in Kootenai County, Idaho near the city of Coeur d'Alene.

FOR FURTHER INFORMATION CONTACT: Victoria Peters, Design Operations Engineer or Christy Darden, Project Manager, Federal Highway Administration, 610 East Fifth Street, Vancouver, Washington 98661, telephone 360-696-7700.

SUPPLEMENTARY INFORMATION: The FHWA, in partnership with the U.S. Forest Service, East Side Highway District, and Idaho Department of Transportation, will prepare an environmental impact statement (EIS) on a proposal to improve Fernan Lake Road also known as Idaho Forest Highway 80. The section proposed for improvement begins at Fernan Village, outside of Coeur d'Alene, and ends at Fernan Saddle for a distance of approximately 17.2 kilometers (10.7 miles).

Fernan Lake Road provides access to Idaho Panhandle National Forest (IPNF). Because it is located close to the population in Coeur d'Alene and has direct access to I-90, Fernan Lake Road has a high vehicle usage. The recreational usage creates a dangerous mix of users including bicyclists, pedestrians, cars, recreational vehicles, timber haulers, trucks and school buses along this substandard paved road.

The existing Fernan Lake Road is narrow, has numerous sharp curves, a failing subgrade, a deteriorating road surface, and a substandard horizontal alignment which limits sight distance (“blind curves”). There are no developed recreational parking areas and very few turnouts along Fernan Lake, so users park along the road, creating a safety hazard. Safety hazards are created by a narrow road with sharp curves and a surface that is in poor condition. The reported accidents over a period of approximately five years (January 1994 to December 1998) are two to three times higher than typical for this type of road. Solutions are needed to reduce the rate and severity of accidents and to provide for the current and projected traffic demand.

The overall purpose of the project is to cost effectively improve the physical conditions and safety features of Fernan Lake Road, while minimizing adverse impacts to sensitive environmental resources. Project objectives will be based on the needs developed during the scoping process. All improvements must be consistent with the applicable guidelines from the IPNF Forest Plan, Kootenai County plans and ordinances, Idaho state regulations, and federal regulations.

Alternatives under consideration include (1) taking no action; (2) improving the existing road to meet the appropriate Idaho state design criteria; (3) improving the existing road to meet the appropriate American Association of State Highway and Transportation Officials (AASHTO) design criteria; (4) other alternatives that may be developed during the NEPA process.

Notices describing the proposed action and soliciting comments will be sent to appropriate Federal, State, and local agencies, and to private organizations and citizens who have previously expressed interest in this proposal. Two public scoping meetings were held during 2000 in Coeur d'Alene, Idaho. Based in part on data collected and comments received, FHWA has determined that it will prepare an EIS on the project. Comments previously received will be utilized during the EIS. Additional interagency and public scoping activities will be conducted. The time and place of the public scoping activities will be provided in the local news media and by notice to individuals and agencies that have expressed interest in the proposal. The draft EIS will be available for public and agency review and comment. Schedules for these activities will be distributed when available this winter.

To ensure that the full range of issues related to this proposed action are addresses and all significant issues identified, comments and suggestions are invited from all interested parties. Previous comments received by FHWA have identified a number of issues such as impacts to private landowners, water quality, wetlands, and wildlife, as well as, hillside stability, placement of fill in the lake, tree removal, and parking along the roadway. Comments or questions concerning this proposed action and the EIS should be directed to the FHWA at the address provided above.

Catalog of Federal Domestic Assistance Program Number 20.205, Highway Research, Planning and Construction. The regulations implementing Executive Order 12372 regarding intergovernmental consultation on Federal programs and activities apply to this program.)

Issued on: September 27, 2000.
Ronald W. Carmichael,
Division Engineer, Federal Highway Administration.

[FR Doc. 00-25328 Filed 10-2-00; 8:45 am]

BILLING CODE 4910-22-M